GOVERNMENT ACCOUNTABILITY OFFICE

Appointments to the Medicare Payment Advisory Commission

AGENCY: Government Accountability Office (GAO).

ACTION: Notice of appointments.

SUMMARY: The Balanced Budget Act of 1997 established the Medicare Payment Advisory Commission (MedPAC) and gave the Comptroller General responsibility for appointing its members. This notice announces the appointment of two new members and the reappointments of five existing members.

DATES: Appointments are effective May 1, 2009.

ADDRESSES:

GAO: 441 G Street, NW., Washington, DC 20548.

MedPAC: 601 New Jersey Avenue, NW., Suite 9000, Washington, DC 20001.

FOR FURTHER INFORMATION CONTACT:

GAO: Office of Public Affairs, (202) 512-4800.

MedPAC: Mark E. Mifier, PhD, (202) 220-3700.

SUPPLEMENTARY INFORMATION: To fill this year's vacancies I am announcing the following:

Newly appointed members are Robert A. Berenson, M.D., F.A.C.P., senior fellow at the Urban Institute, and Herb B. Kuhn, an independent health care consultant specializing in Medicare and Medicaid issues.

Reappointed members are Mitra Behroozi, J.D., executive director of 1199 SEIU Benefit and Pension Funds; Karen R. Borman, M.D., professor of surgery at the University of Central Florida College of Medicine; Ronald D. Castellanos, M.D., urologist at Southwest Florida Urologic Associates; Glenn M. Hackbarth, J.D., (chair); and Bruce Stuart, PhD, a professor and executive director of the Peter Lamy Center on Drug Therapy and Aging at the University of Maryland Baltimore.

(Sec. 4022, Pub. L. 105-33, 111 Stat. 251, 350)

Gene L. Dodardo,
Acting Comptroller General of the United States.

[FR Doc. E9-11403 Filed 5-14-09; 8:45 am]

BILLING CODE 1610-02-M